ENVIRONMENTAL PROTECTION AGENCY

[ER-FRL-6622-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 260-5076. An explanation of the ratings assigned to draft environmental impact statements (EISs) was published in FR dated May 18, 2001 (66 FR 27647).

Draft EISs

ERP No. D-AFS-F65029-IL Rating EC2, Midewin National Tallgrass, Proposed Land and Resource Management Plan, Implementation, Prairie Plan Development, Will County, IL.

Summary: EPA expressed environmental concerns with potential adverse impacts to water and air quality, existing wetland functions, from invasive species and of the non-target impacts of agricultural practices.

ERP No. D-AFS-G65079-NM Rating LO, Talpa-to-Penasco Proposed to Construct and Operate 69 kV Transmission Line, Kit Carson Electric Cooperative, Carson National Forest, Camine Real Ranger District, Taos County, NM.

Summary: While EPA has no objections to the selection of the preferred alternative (Alternative B), EPA did recommend that the Final EIS make a commitment that mitigation measures be incorporated into the Record of Decision document.

ERP No. D-FAA-K51039-CA Rating EO2, Los Angeles International Airports, Proposed Master Plan Improvements on Runway, New Taxiways, New Terminal, New Air Cargo and Maintenance, Funding, Los Angeles, Los Angeles County, CA.

Summary: EPA expressed environmental objections due to projected violations of the National Ambient Air Quality Standards; disproportionately high, adverse effects on low income and minority communities from aircraft noise; potential health effects from air pollutants; and the failure to fully evaluate a regionally-based alternative. EPA requested additional information on these issues and appropriate mitigation to reduce projected impacts.

ERP No. D-FHW-E40789-MS Rating EO2, East Harrison County Connector Construction, I-10 to US 90, Funding, US Army COE and US Coast Guard Permits Issuance and Possible Transfer of Federal Lands, Harrison County, MS.

Summary: EPA expressed objections due to extensive wetland impacts, noise impacts, and hazardous waste impacts. EPA requested additional information and mitigation of these issues.

ERP No. D-FHW-H40397-MO Rating LO, Interstate 70 Corridor Improvements, Kansas City to St. Louis, Funding, US Army COE Section 404 and 10 and US Coast Guard Section 9 Permits Issuance, several counties, MO.

Summary: EPA expressed a lack of objections to the First Tier DEIS. EPA recommended that the FHWA also examine the merits of including “truck only” features (in addition to widening existing 1-70) in the Metropolitan Kansas City and St. Louis sections of the I-70 improvements for enhancing the project's ability to meet stated purposes(s) and need(s).

ERP No. D-UAF-J11019-MT Rating EC2, Montana Air National Guard Air-to-Ground Training Range Development for Use by the 120th Fighter Wing (120th FW), Implementation, Phillips and Blaine Counties, MT.

Summary: EPA expressed environmental concerns about impact to people and wildlife from noise and visual stimuli from low altitude F-16 flights, and noted the need for monitoring for hazardous contaminants, and development of a weed control strategy, and improved analysis and disclosure of environmental justice concerns. EPA also recommended that the FEIS include a more comprehensive alternatives matrix to more fully summarize environmental consequences and provide a clearer basis for choice among alternatives.

ERP No. DS-FAA-F51046-MN Rating EC2, Flying Cloud Airport, Substantive Changes to Alternatives and New Information, Extension of the Runways 9R/27L and 9L/27R, Long-Term Comprehensive Development, In the City of Eden Prairie, Hennepin County, MN.

Summary: EPA expressed concern regarding future noise levels and requested that the FEIS identify and discuss what provisions will be in place to monitor and mitigate, if necessary, any future significant increases in noise levels from those estimated in the SDEIS.

Final EISs

ERP No. F-AFS-L65366-AK

Woodpecker Project Area, Timber Harvesting, Dispersed Recreation Opportunities and Watershed Improvements, Implementation, Tongass National Forest, Petersburg Ranger District, Mitkof Island, Petersburg, AK.

Summary: No formal comment letter sent to the preparing agency.

ERP No. F-AFS-L65369-OR Mill Creek Timber Sales and Related Activities, To Implement Ecosystem Management Activities, Prospect Ranger District, Rogue River National Forest, Jackson County, OR.

Summary: EPA has a lack of objections to the proposed timber sale and related activities.

ERP No. F-FAA-E51048-CA Hartsfield Atlanta International Airport, Construction and Operation of the 9,000-Foot Fifth Runway and Associated Projects, Approval of Airport Layout Plan (ALP), City of Atlanta, Fulton and Clayton Counties, GA.

Summary: EPA continues to express concern regarding noise, air quality and EJ impacts. EPA recommended additional mitigation and that all mitigation be committed to in the ROD.

ERP No. F-FAA-F51047-00 Chicago Terminal Airspace Project (CTAP), For Proposed Air Traffic Control Procedures and Airspace Modification for Aircraft Operations to/from the Chicago Region, Including Chicago O'Hare International Airport, Chicago Midway Airport, Milwaukee Mitchell International Airport, IL, IN and WI.

Summary: EPA has no objections to the action as proposed.

ERP No. F-FHW-E40769-TN TN-385 (Collierville-Arlington Parkway) Improvement Project, Construction from Mt. Pleasant Road to South of Interstate 40, Shelby and Fayette Counties, TN.

Summary: EPA remains concerned about degradation of water quality in the Wolf River and other tributaries not meeting designated uses from erosion, situation and and other pollutants associated with road construction and operations.

ERP No. F-FHW-G40161-AR Southeast Arkansas I-69 Connector Construction, US-278 in the vicinity of Monticello to I-530 in Pine Bluff, Funding and US Army COE Section 404 and NPDES Permits Issuance, Drew, Lincoln, Cleveland and Jefferson Counties, AR.

Summary: EPA has no objection to the selection of the preferred alternative. EPA has no other comments to offer on the FEIS.

Dated: October 2, 2001.
Joseph C. Montgomery,
Director, NEPA Compliance Division, Office of Federal Activities.

[FR Doc. 01-25026 Filed 10-4-01; 8:45 am]

BILLING CODE 6560-50-P